DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Twin Cities and Western Railroad

(Docket Number FRA-2006-26093)

The Twin Cities and Western Railroad (TC&W) seeks to amend its current waiver of compliance from certain provisions of the Railroad Safety Appliance Standards, 49 CFR Part 231, and the Railroad Power Brakes and Drawbars Regulations, 49 CFR Part 232, concerning RailRunner® train operations over their system. Specifically, TC&W requests authority to operate RailRunner® equipment behind mixed freight conventional railcars and behind Trailer On Flat Car/Container On Flat Car (TOFC/COFC) intermodal trains.

The current waiver to operate RailRunner® equipment was granted to TC&W on March 15, 2007. Since the granting of the existing waiver, there have been no accidents, incidents, or injury to personnel reported to the FRA involving TC&W operating RailRunner® equipment. For conventional mixed freight trains, TC&W will restrict RailRunner® units per train to a maximum of 50 with a maximum trailing tonnage of 1,500 tons. For TOFC/COFC trains, TC&W will restrict RailRunner® units per train to a maximum of 50 with a maximum trailing tonnage of 1,000 tons.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-26093) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on May 6, 2008.
Grady C. Cothen, Jr.,
Deputy Associate Administrator for Safety Standards and Program Development.

[FR Doc. E8-10475 Filed 5-9-08; 8:45 am]

BILLING CODE 4910-06-P